NUCLEAR REGULATORY COMMISSION

[NRC-2009-0351]

Draft Regulatory Guide: Issuance, Availability

AGENCY: Nuclear Regulatory Commission.

ACTION: Notice of Issuance and Availability of Draft Regulatory Guide, DG-1236, “Initial Startup Test Program to Demonstrate Remote Shutdown Capability for Water-Cooled Nuclear Power Plants.”

FOR FURTHER INFORMATION CONTACT: Jonathan Ortega-Luciano, U. S. Nuclear Regulatory Commission, Washington, DC 20555-0001, telephone: (301) 415-1159 or e-mail Jonathan.Ortega-Luciano@nrc.gov.

SUPPLEMENTARY INFORMATION:

I. Introduction

The U.S. Nuclear Regulatory Commission (NRC) is issuing for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), entitled, “Initial Startup Test Program to Demonstrate Remote Shutdown Capability for Water-Cooled Nuclear Power Plants,” is temporarily identified by its task number, DG-1236, which should be mentioned in all related correspondence. DG-1236 is proposed Revision 2 of Regulatory Guide 1.68.2, dated July 1978.

This guide describes an initial startup test program acceptable to the NRC staff for demonstrating hot shutdown capability and the potential for cold shutdown from outside the control room. This guide is applicable to water-cooled nuclear power plants.

Title 10, Part 50, of the Code of Federal Regulations (10 CFR Part 50), “Domestic Licensing of Production and Utilization Facilities,” and 10 CFR Part 52, “Licenses, Certifications, and Approvals for Nuclear Power Plants,” 10 CFR 50.34, “Contents of Applications; Technical Information,” and 10 CFR 52.79, “Contents of Application, Technical Information in FSAR,” require, in part, that an applicant for a license to operate a production or utilization facility provide a safety analysis report (SAR) that includes the principal design criteria for the proposed facility. The introduction to Appendix A, “General Design Criteria for Nuclear Power Plants,” to 10 CFR Part 50 states that these principal design criteria are to establish the necessary design, fabrication, construction, testing, and performance requirements for structures, systems, and components (SSCs) important to safety (i.e., SSCs that provide reasonable assurance that the facility can be operated without undue risk to the health and safety of the public).

II. Further Information

The NRC staff is soliciting comments on DG-1236. Comments may be accompanied by relevant information or supporting data and should mention DG-1236 in the subject line. Comments submitted in writing or in electronic form will be made available to the public in their entirety through the NRC's Agencywide Documents Access and Management System (ADAMS).

Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed. You may submit comments by any of the following methods:

1. Mail comments to: Rulemaking and Directives Branch, Mail Stop: TWB-05-B01M, Division of Administrative Services, Office of Administration, U.S. Nuclear Regulatory Commission, Washington, DC 20555-0001.

2. Federal e-Rulemaking Portal: Go to http://www.regulations.gov and search for documents filed under Docket ID [NRC-2009-0351]. Address questions about NRC dockets to Carol Gallagher, 301-492-3668; e-mail Carol.Gallagher@nrc.gov.

3. Fax comments to: Rulemaking and Directives Branch, Office of Administration, U.S. Nuclear Regulatory Commission at (301) 492-3446.

Requests for technical information about DG-1236 may be directed to the NRC contact, Jonathan Ortega-Luciano at (301) 251-7627 or e-mail to Jonathan.Ortega-Luciano@nrc.gov.

Comments would be most helpful if received by October 9, 2009. Comments received after that date will be considered if it is practical to do so, but the NRC is able to ensure consideration only for comments received on or before this date. Although a time limit is given, comments and suggestions in connection with items for inclusion in guides currently being developed or improvements in all published guides are encouraged at any time.

Electronic copies of DG-1236 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML091210435.

In addition, regulatory guides are available for inspection at the NRC's Public Document Room (PDR) located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 4th day of August, 2009.
For the Nuclear Regulatory Commission.
John N. Ridgely,
Acting Chief, Regulatory Guide Development Branch, Division of Engineering, Office of Nuclear Regulatory Research.

[FR Doc. E9-19295 Filed 8-11-09; 8:45 am]

BILLING CODE 7590-01-P